DEPARTMENT OF JUSTICE

Notice of Lodging of Proposed Consent Decree Under the Comprehensive Environmental Response, Compensation, and Liability Act

On August 12, 2016, the Department of Justice lodged a proposed Consent Decree with the United States District Court for the Northern District of Ohio in the lawsuit entitled United States v. Aerojet Rocketdyne Holdings, Inc., Civil Action No. 3:16-cv-02022.

The United States filed this lawsuit under the Comprehensive Environmental Response, Compensation, and Liability Act (“CERCLA”) and the Clean Water Act. The United States' complaint names the following parties as defendants: Aerojet Rocketdyne Holdings, Inc. (fka Gencorp Inc.); Allied Waste Industries, Inc.; E.I. DuPont de Nemours and Company; Honeywell International, Inc.; Illinois Tool Works, Inc.; United Technologies Corporation; Grand Trunk Western Railroad Company; Perstorp Polyols Inc.; Varta Microbattery Inc.; and The Mosaic Company (fka MOS Holdings Inc.). The State of Ohio filed a related lawsuit, named State of Ohio, ex rel. DeWine v. Aerojet Rocketdyne Holdings, Inc. et al., Civil Action No. 3:16-cv-02027 (N.D. Ohio), under CERCLA, the Clean Water Act, and its common law public trust doctrine. The State names as Defendants the Defendants in the United States' complaint, plus the United States of America, the United States Navy, Air Force, Army, and the Department of Commerce (“Settling Federal Agencies”).

The complaints request recovery of natural resource damages (“NRD”), including costs of restoration and injured, destroyed, or lost natural resources resulting from releases of hazardous substances into an area defined in the Consent Decree as the Ottawa River Assessment Area, and assessment costs. All of the Defendants signed the consent decree. The non-federal Defendants agree to restore property located adjacent to the Cedar Point National Wildlife Refuge in Ottawa County, estimated to cost $1,100,000, including the price of acquiring the property itself, which has already occurred, then donate the property to the U.S. Department of the Interior (“DOI”), Fish and Wildlife Service (“FWS”). They will also pay $250,000 for additional restoration projects to be determined by the FWS and the Ohio Environmental Protection Agency (“Ohio EPA”) and pay a total of $1,311,372 in past NRD assessment costs, $891,330 to the United States and $420,042 to the State of Ohio. The Settling Federal Agencies will pay $270,623.79, including $181,318.33 to DOI for past NRD assessment costs, $28,579.46 to the State for past NRD assessment costs, and $60,726.69 for future restorations projects to be determined by the FWS and Ohio EPA.

In return, the United States agrees not to sue the non-federal defendants, and DOI and FWS agree not to take administrative action against the Settling Federal Agencies, for NRD under CERCLA, the Clean Water Act, or federal statutory or state statutory or common law. The State agrees not to sue the non-federal Defendants and the Settling Federal Agencies for NRD under CERCLA, the Clean Water Act, or federal statutory or state statutory or common law. The non-federal settling Defendants agree not to sue the State or the United States (including the Settling Federal Agencies) pursuant to CERCLA, the Clean Water Act, or federal statutory or state statutory or common law for NRD or any response actions undertaken in the Ottawa River Assessment Area pursuant to the Great Lakes Legacy Act.

The publication of this notice opens a period for public comment on the proposed Consent Decree. Comments should be addressed to the Assistant Attorney General, Environment and Natural Resources Division, and should refer to United States and State of Ohio v. Aerojet Rocketdyne Holdings, Inc. et al., D.J. Ref. No. 90-11-3-09090. All comments must be submitted no later than thirty (30) days after the publication date of this notice. Comments may be submitted either by email or by mail:

To submit comments: | Send them to:
By e-mail | pubcomment-ees.enrd@usdoj.gov.
By mail | Assistant Attorney General, U.S. DOJ-ENRD, P.O. Box 7611, Washington, D.C. 20044-7611.

During the public comment period, the Consent Decree may be examined and downloaded at this Justice Department Web site: https://www.justice.gov/enrd/consent-decrees. We will provide a paper copy of the Consent Decree upon written request and payment of reproduction costs. Please mail your request and payment to: Consent Decree Library, U.S. DOJ-ENRD, P.O. Box 7611, Washington, DC 20044-7611.

Please enclose a check or money order for $42.50 (25 cents per page reproduction cost) payable to the United States Treasury for the Consent Decree. For a paper copy without the exhibits and signature pages, the cost is $13.25.

Randall M. Stone,
Acting Assistant Section Chief, Environmental Enforcement Section, Environment and Natural Resources Division.

[FR Doc. 2016-20076 Filed 8-22-16; 8:45 am]

BILLING CODE 4410-15-P